DEPARTMENT OF THE INTERIOR

National Park Service

[NPS-WASO-NAGPRA-15413; PPWOCRADN0-PCU00RP14.R50000]

Notice of Inventory Completion: University of Wisconsin-Madison, Department of Anthropology, Madison, WI

AGENCY: National Park Service, Interior.

ACTION: Notice.

SUMMARY: The University of Wisconsin-Madison Department of Anthropology has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the University of Wisconsin-Madison Department of Anthropology. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the University of Wisconsin-Madison Department of Anthropology at the address in this notice by June 16, 2014.

ADDRESSES: Sissel Schroeder, University of Wisconsin-Madison, Department of Anthropology, 1180 Observatory Drive, 5240 Social Sciences Building, Madison, WI 53706, telephone (608) 262-0317, email sschroeder2@wisc.edu.

SUPPLEMENTARY INFORMATION: Notice is here given in accordance with the Native American Graves Protection and Repatriation Act (NAGPRA), 25 U.S.C. 3003, of the completion of an inventory of human remains and associated funerary objects under the control of the University of Wisconsin-Madison Department of Anthropology, Madison, WI. The human remains and associated funerary objects were removed from Winnebago County, WI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the University of Wisconsin-Madison Department of Anthropology professional staff in consultation with representatives of the Forest County Potawatomi Community, Wisconsin; Ho-Chunk Nation of Wisconsin; Lac Courte Oreilles Band of Lake Superior Chippewa Indians of Wisconsin; Lac du Flambeau Band of Lake Superior Chippewa Indians of the Lac du Flambeau Reservation of Wisconsin; Menominee Indian Tribe of Wisconsin; Sokaogon Chippewa Community, Wisconsin; and the Stockbridge Munsee Community, Wisconsin. The Winnebago Tribe of Nebraska was invited to consult but did not attend.

History and Description of the Remains

In 1964, human remains representing, at minimum, five individuals were removed from the Lasley's Point site, in Winnebago County, WI, by G. Richard Peske for his dissertation research. The Lasley's Point site was originally reported by Publius V. Lawson in 1902, and was partially excavated during the 1930s and 1940s by Arthur P. Kanenburg of the Oshkosh Public Museum. The human remains at the University of Wisconsin-Madison are reported as: From Burial 1, a mid-old age female, an adult of unknown age and sex, and a child; from Burial 2, an old age adult male and an infant of unknown sex. No known individuals were identified. The six associated funerary objects are: 1 portion of a plain, shell-tempered prehistoric ceramic pot; 1 portion of a Lake Winnebago Focus ceramic vessel; 1 Lake Winnebago Focus ceramic vessel portion with strap handles; 1 section of a small Lake Winnebago Focus ceramic vessel; 1 mollusca valve; and 1 lot of red soil identified as part of the burial pit liner along with fragmentary shell-tempered ceramic sherds, fragmentary animal bones, shell fragments, and a small prehistoric lithic core. Based on associated funerary objects recovered from the site, the burials date from the Lake Winnebago phase of the Oneota culture (ca. A.D. 1400-1500).

Determinations Made by the University of Wisconsin-Madison Department of Anthropology

Officials of the University of Wisconsin-Madison Department of Anthropology have determined that:

• Pursuant to 25 U.S.C. 3001(9), the human remains described in this notice are Native American based on their examination by a physical anthropologist, their recovery from a known archeological site, and their documented provenience in field records.

• Pursuant to 25 U.S.C. 3001(9), the human remains described in this notice represent the physical remains of five individuals of Native American ancestry.

• Pursuant to 25 U.S.C. 3001(3)(A), the six objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Ho-Chunk Nation of Wisconsin; and the Winnebago Tribe of Nebraska.

• Treaties, Acts of Congress, or Executive Orders, indicate that the land from which the Native American human remains and associated funerary objects were removed is the aboriginal land of the Ho-Chunk Nation of Wisconsin; Menominee Indian Tribe of Wisconsin; Stockbridge Munsee Community, Wisconsin; and the Winnebago Tribe of Nebraska.

• Pursuant to 43 CFR 10.11(c)(1), the disposition of the human remains and associated funerary objects may be to the Ho-Chunk Nation of Wisconsin; Menominee Indian Tribe of Wisconsin; Stockbridge Munsee Community, Wisconsin; and the Winnebago Tribe of Nebraska.

Additional Requestors and Disposition

Representatives of any Indian tribe or Native Hawaiian organization not identified in this notice that wish to request transfer of control of these human remains and associated funerary objects should submit a written request with information in support of the request to Sissel Schroeder, University of Wisconsin-Madison, Department of Anthropology, 1180 Observatory Drive, 5240 Social Sciences Building, Madison, WI 53706, telephone (608) 262-0317, email sschroeder2@wisc.edu, by June 16, 2014. After that date, if no additional requestors have come forward, transfer of control of the human remains and associated funerary objects to the Ho-Chunk Nation of Wisconsin; Menominee Indian Tribe of Wisconsin; Stockbridge Munsee Community, Wisconsin; and the Winnebago Tribe of Nebraska may proceed.

The University of Wisconsin-Madison Department of Anthropology is responsible for notifying the Ho-Chunk Nation of Wisconsin; Menominee Indian Tribe of Wisconsin; Stockbridge Munsee Community, Wisconsin; and the Winnebago Tribe of Nebraska that this notice has been published.

Dated: March 31, 2014.
Sherry Hutt,
Manager, National NAGPRA Program.

[FR Doc. 2014-11259 Filed 5-14-14; 8:45 am]

BILLING CODE 4312-50-P